FEDERAL MARITIME COMMISSION

Sunshine Act Meeting

AGENCY HOLDING THE MEETING: Federal Maritime Commission.

TIME AND DATE: June 8, 2011—10 a.m.

PLACE: 800 North Capitol Street, NW., First Floor Hearing Room, Washington, DC.

STATUS: Part of the meeting will be in Open Session and the remainder of the meeting will be in Closed Session.

MATTERS TO BE CONSIDERED:

Open Session

1. Ministry of Transport of the People's Republic of China Request for Adjustment of NVOCC Bond Rider for China Trades—Draft Notice of Inquiry

Closed Session

1. Container Freight Index and Derivatives Working Group—Status Report

2. Staff Briefing on Meetings with Transpacific Stabilization Agreement Representatives and Shipper Representatives

CONTACT PERSON FOR MORE INFORMATION: Karen V. Gregory, Secretary, (202) 523-5725.

Karen V. Gregory,
Secretary.

[FR Doc. 2011-14307 Filed 6-6-11; 4:15 pm]

BILLING CODE 6730-01-P